DEPARTMENT OF LABOR

Employment and Training Administration

[TA-W-63,221]

IAC Corporation, Dayton, TN; Notice of Termination of Investigation

Pursuant to Section 221 of the Trade Act of 1974, as amended, an investigation was initiated on April 21, 2008 in response to a petition filed by a company official on behalf of workers of IAC Corporation, Dayton, Tennessee.

The petitioner has requested that the petition be withdrawn. Consequently, the investigation has been terminated.

Signed in Washington, DC, this 11th day of July 2008.
Linda G. Poole,
Certifying Officer, Division of Trade Adjustment Assistance.

[FR Doc. E8-16569 Filed 7-18-08; 8:45 am]

BILLING CODE 4510-FN-P